DEPARTMENT OF AGRICULTURE

Forest Service

Notice of Meeting

The Deschutes and Ochoco National Forests Resource Advisory Committee will meet on May 17, 2011 at the Central Oregon Intergovernmental Council building, main conference room, 2363 SW. Glacier Place, Redmond, Oregon. The meeting will begin at 8 a.m. and continue until 5 p.m. or until adjourned. Committee members will receive proposed natural resource projects that will be reviewed and recommended, discuss the Committee's project guidelines and decision making priorities, review and discuss reports related to the work of the Committee under Title II of the Secure Rural Schools and Community Self-Determination Act of 2000, as amended and reauthorized in 2008. All Deschutes and Ochoco National Forests Resource Advisory Committee meetings are open to the public. Interested citizens are welcome to attend.

John Allen,
Designated Federal Official, Deschutes National Forest Supervisor.

[FR Doc. 2011-11095 Filed 5-6-11; 8:45 am]

BILLING CODE 3410-11-M